DEPARTMENT OF JUSTICE

Notice of Lodging of Consent Decree Pursuant To the Comprehensive Environmental Response, Compensation, and Liability Act

Under Section 122(d) of the Comprehensive Environmental Response, Compensation, and Liability Act, 42 U.S.C. 9622(d), and 28 CFR 50.7, notice is hereby given that on October 10, 2000, a proposed Partial Consent Decree (“Decree”) in two consolidated cases, United States v. Allied Battery Co., Civil No. CV-98-N-0446-S, and United States v. CSX Transportation, Inc., Civil No. CV-98-N-2561, was lodged with the United States District Court for the Northern District of Alabama. In this action, the United States seeks recovery of its response costs incurred by EPA in cleaning up contaminated soil at the Carlie Lee Superfund Site, a former battery cracking operation located in Tarrant City, Alabama, near Birmingham. Under this Decree, four settling defendants—Allied Battery Co., Econo Battery Services, Fairfield Iron & Metals, Inc. and Joseph J. McCleney, Jr.—have agreed to pay separate amounts, collectively totaling $36,000, in partial reimbursement of the United States' response costs.

The Department of Justice will receive for a period of thirty (30) days from the date of this publication comments concerning the proposed Consent Decree. Comments should be addressed to the Assistant Attorney General, Environment and Natural Resources Division, U.S. Department of Justice, P.O. Box 7611, Washington, DC, 20044-7611, and should refer to United States v. Allied Battery Co. D.J. Ref. 90-11-3-1758, and United States v. CSX Transportation, Inc., D.J. Ref. 90-11-3-1758/1.

The proposed Consent Decree may be examined at the Office of the United States Attorney for the Northern District of Alabama, 200 Robert Vance Federal Bldg., 1800 5th Ave. N., Birmingham, Alabama; and (2) the U.S. Environmental Protection Agency, Region 4, 61 Forsyth Street, SW., Atlanta, Georgia. A copy of the Decree may also be obtained by mail from the Consent Decree Library, P.O. Box 7611, U.S. Department of Justice, Washington, DC 20044-7611. In requesting a copy, please enclose a check in the amount of $6.25 (25 cents per page reproduction cost) payable to the Consent Decree Library.

Walker B. Smith,
Deputy Chief, Environmental Enforcement Section, Environment & Natural Resources Division.

[FR Doc. 00-29294 Filed 11-15-00; 8:45 am]

BILLING CODE 4410-15-M